DEPARTMENT OF THE INTERIOR

National Park Service

National Register of Historic Places; Notification of Pending Nominations and Related Actions

Nominations for the following properties being considered for listing or related actions in the National Register were received by the National Park Service before November 10, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by December 12, 2007.

J. Paul Loether,
Chief, National Register of Historic Places/National Historic Landmarks Program.

Colorado

Las Animas County

East Street School, 206 East St., Trinidad, 07001277

Indiana

Elkhart County

Conn, Charles Gerard, Mansion, 723 Strong Ave., Elkhart, 07001278

Hendricks County

Smith Farm, 2698 S Cty. Rd. 900 E., Plainfield, 07001279

Jackson County

Cavanaugh Bridge, .6 mi S of Cty. Rd. 700 S on Cty. Rd. 550 W over Muscatatuck R., Brownstown, 07001280

Porter County

Wolf, Josephus, House, 453 W 700 N., Valparaiso, 07001281

Pulaski County

Pulaski County Courthouse, 112 E Main St., Winamac, 07001282

Vermillion County

Vermillion County Courthouse, 255 S Main St., Newport, 07001283

Maryland

Baltimore County

Winters Lane Historic District, Winters Ln. between Frederick Rd. & Baltimore National Pike, Catonsville, 07001285

Baltimore Independent City

Grief, L. and Bro., Inc. Manufactory, 901 N Milton Ave., Baltimore (Independent City), 07001284

Carroll County

Keefer—Brubaker Farm, 2719 Roop Rd., Taneytown, 07001286

Kent County

Woodland Hall, 13111 Shallcross Wharf Rd., Kennedyville, 07001287

Prince George's County

Hilltop Manor, 4100-4112, 4200-4214 53rd Ave., 4100-4210 53rd Pl., & 5300-5304 Annapolis Rd., Bladensburg, 07001288

Missouri

Greene County

Gottfried Furniture Company Building, (Springfield MPS) 326 Boonville Ave., Springfield, 07001289

Jackson County

Smith and Sons Manufacturing Company Building, (Railroad Related Historic Commercial and Industrial Resources in Kansas City, Missouri MPS) 1400-26 Guinotte Ave., Kansas City, 07001290

St. Louis Independent City

Central Carondelet Historic District (Boundary Increase), Roughly bounded by Loughborough, Holly Hills, Idaho and S. Broadway, St. Louis (Independent City), 07001291

Wagoner Place Historic District, Bounded by Dick Gregory, Marcus, Dr. M.L. King & N. Market Sts., St. Louis (Independent City), 07001292

Montana

Golden Valley County

Lavina State Bank, 101 Main St., Lavina, 07001293

Ohio

Ashtabula County

Cleveland Hotel, The, 230-238 State St., Conneaut, 07001294

Hamilton County

Bullerdick, Frederick E. and Catherine, House, 4321 Hamilton Ave., Cincinnati, 07001295

Summit County

Rhodes and Watters Apartment Buildings, The, 614, 608, 610, 612 W. Market St. & 16 Rhodes Ave., Akron, 07001296

Rhode Island

Washington County

Westerly Downtown Historic District (Boundary Increase), 12 Canal St., Westerly, 07001297

Vermont

Franklin County

Bridge 12, (Metal Truss, Masonry, and Concrete Bridges in Vermont MPS) Boston Post Rd., Enosburg, 07001299

Bridge 9,

(Metal Truss, Masonry, and Concrete Bridges in Vermont MPS) Shawville Rd., Sheldon, 07001298

Lamoille County

Bridge 6, (Metal Truss, Masonry, and Concrete Bridges in Vermont MPS) Railroad St., Johnson, 07001300

A request for REMOVAL has been made for the following resource:

Tennessee

Shelby County

Douglass High School, 3200 Mount Olive Rd., Memphis, 98000241

[FR Doc. E7-22989 Filed 11-26-07; 8:45 am]

BILLING CODE 4312-51-P